DEPARTMENT OF COMMERCE

International Trade Administration

[A-570-601]

Tapered Roller Bearings and Parts Thereof, Finished and Unfinished, From the People's Republic of China: Final Results of the 2011-2012 Antidumping Duty Administrative Review and New Shipper Reviews

AGENCY: Enforcement and Compliance, Formerly Import Administration, International Trade Administration, Department of Commerce.

SUMMARY: On July 8, 2013, the Department of Commerce (the Department) published the preliminary results of the 25th administrative review and two new shipper reviews (NSRs) of the antidumping duty order on tapered roller bearings and parts thereof, finished and unfinished (TRBs), from the People's Republic of China (PRC).¹ The period of review (POR) is June 1, 2011, through May 31, 2012. Based on our analysis of the comments received, we have made certain changes in the margin calculations. Therefore, the final results differ from the preliminary results. The final weighted-average dumping margins for the reviewed firms are listed below in the section entitled “Final Results of the Review.”

¹ See Tapered Roller Bearings and Parts Thereof, Finished and Unfinished, From the People's Republic of China: Preliminary Results of Antidumping Duty Administrative Review and New Shipper Reviews; 2011-2012, 78 FR 40692 (July 8, 2013) (Preliminary Results), and accompanying Preliminary Decision Memorandum.

DATES: Effective Date: January 27, 2014.

FOR FURTHER INFORMATION CONTACT: Blaine Wiltse or Alan Ray, AD/CVD Operations, Office II, Enforcement and Compliance, International Trade Administration, U.S. Department of Commerce, 14th Street and Constitution Avenue NW., Washington, DC 20230; telephone: (202) 482-6345 or (202) 482-5463, respectively.

Background

The administrative review covers six exporters of the subject merchandise, of which the Department selected Changshan Peer Bearing Co. Ltd. (CPZ/SKF) as a mandatory respondent for individual examination. The respondents which were not selected for individual examination are listed in the “Final Results of the Review” section of this notice. The NSRs cover Haining Automann Parts Co., Ltd. (Automann), and Zhejiang Zhengda Bearing Co., Ltd. (Zhengda).

On July 8, 2013, the Department published the Preliminary Results. In August 2013, we received case and rebuttal briefs from The Timken Company (the petitioner), as well as from CPZ/SKF, Automann, and Zhengda.

As explained in the memorandum from the Assistant Secretary for Enforcement and Compliance, the Department has exercised its discretion to toll deadlines for the duration of the closure of the Federal Government from October 1, through October 16, 2013.² Therefore, all deadlines in this segment of the proceeding have been extended by 16 days. If the new deadline falls on a non-business day, in accordance with the Department's practice, the deadline will become the next business day. Furthermore, on November 12, 2013, the Department extended the final results in the current review to no later than January 21, 2014.³

² See Memorandum for the Record from Paul Piquado, Assistant Secretary for Enforcement and Compliance, “Deadlines Affected by the Shutdown of the Federal Government,” dated October 18, 2013.

³ See Memorandum to Christian Marsh, Deputy Assistant Secretary for Antidumping and Countervailing Duty Operations, from Blaine Wiltse, Senior International Trade Compliance Analyst, Office II, Antidumping and Countervailing Duty Operations, entitled, “Tapered Roller Bearings and Parts Thereof, Finished and Unfinished, from the People's Republic of China: Extension of Deadline for Final Results of Antidumping Duty Administrative Review and New Shipper Reviews,” dated November 12, 2013.

The Department has conducted this administrative review in accordance with section 751 of the Tariff Act of 1930, as amended (the Act).

Scope of the Order

The merchandise covered by the order includes tapered roller bearings. The subject merchandise is currently classifiable under Harmonized Tariff Schedule of the United States (HTSUS) subheadings: 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. The HTSUS subheadings are provided for convenience and customs purposes only; the written description of the scope of the order ⁴ is dispositive.⁵

⁴ See Notice of Antidumping Duty Order; Tapered Roller Bearings and Parts Thereof, Finished or Unfinished, From the People's Republic of China, 52 FR 22667 (June 15, 1987).

⁵ For a complete description of the scope of the Order, see the “Issues and Decision Memorandum for the Antidumping Duty Administrative Review and New Shipper Reviews (2011-2012): Tapered Roller Bearings and Parts Thereof, Finished and Unfinished, from the People's Republic of China,” from James Maeder, Director, Office II, Antidumping and Countervailing Duty Operations, to Christian Marsh, Deputy Assistant Secretary for Antidumping and Countervailing Duty Operations, dated concurrently with, and adopted by, this notice (Issues and Decision Memo).

PRC-Wide Entity

The Department initiated a review of two companies, Ningbo General Bearing Co., Ltd. (NGBC) and Timken de Mexico S.A. de C.V. (Timken Mexico), which did not provide separate rate applications. Because these companies do not already have separate rates, they remain part of the PRC-wide entity in this review.⁶ Accordingly, the PRC-wide entity is under review for these final results. In non-market economy (NME) proceedings, “rates” may consist of a single weighted-average dumping margin applicable to all exporters and producers.⁷ Therefore, we assigned the PRC-wide entity a rate of 92.84 percent, the rate most recently assigned to the PRC-wide entity in this proceeding.⁸ We have received no information since the issuance of the Preliminary Results that provides a basis for reconsidering this determination, and we will, therefore, continue to apply the rate of 92.84 percent to the PRC-wide entity, including NGBC and Timken Mexico.

⁶ See Preliminary Results, 78 FR at 40694, and accompanying Preliminary Decision Memorandum at 5-7.

⁷ See 19 CFR 351.107(d).

⁸ See Tapered Roller Bearings and Parts Thereof, Finished and Unfinished, From the People's Republic of China: Final Results of Antidumping Duty Administrative Review, 74 FR 3987, 3988 (January 22, 2009).

Separate Rates

In the Preliminary Results, we found that Dana Heavy Axle S.A. de C.V. (DHAM), a separate-rate respondent, is a wholly foreign-owned company with no PRC ownership and, therefore, it demonstrated its eligibility for a separate rate.⁹ For the final results, we continue to find no evidence indicating that DHAM is under the control of the PRC and, accordingly, have granted separate rate status to DHAM.

⁹ See Preliminary Results, 78 FR at 40694, and accompanying Preliminary Decision Memorandum at 6.

Also as stated in the Preliminary Results, evidence provided by Automann, CPZ/SKF, Zhejiang Sihe Machine Co., Ltd. (Sihe), Zhejiang Zhaofeng Mechanical and Electronic Co., Ltd. (Zhaofeng), and Zhengda, supported finding an absence of both de jure and de facto government control, and, therefore, we preliminarily granted a separate rate to each of these companies.¹⁰ We have received no information since the issuance of the Preliminary Results that provides a basis for reconsidering this determination. Therefore, for the final results, we continue to find that Automann, CPZ/SKF, Sihe, Zhaofeng, and Zhengda are eligible for a separate rate.

¹⁰ See Preliminary Results, 78 FR at 40694, and accompanying Preliminary Decision Memorandum at 7.

Weighted-Average Dumping Margin for the Non-Examined, Separate-Rate Companies

For the exporters subject to a review that are determined to be eligible for a separate rate, but are not selected as individually examined respondents, the Department generally weight averages the rates calculated for the individually examined respondents, excluding any rates that are zero, de minimis, or based entirely on facts available.¹¹ In this instance, the only individually-examined company is CPZ/SKF, which has a rate that is not zero, de minimis, or based entirely on facts available. Accordingly, consistent with the Department's practice,¹² we have determined that the weighted-average dumping margin to be assigned to the separate rate respondents not individually examined (i.e., DHAM, Sihe, and Zhaofeng) should be the weighted-average dumping margin calculated for the mandatory respondent, CPZ/SKF.

¹¹ See, e.g., Wooden Bedroom Furniture From the People's Republic of China: Preliminary Results of Antidumping Duty Administrative Review, Preliminary Results of New Shipper Review and Partial Rescission of Administrative Review, 73 FR 8273, 8279 (February 13, 2008) (unchanged in Wooden Bedroom Furniture from the People's Republic of China: Final Results of Antidumping Duty Administrative Review and New Shipper Review, 73 FR 49162 (August 20, 2008)).

¹² See, e.g., Tapered Roller Bearings and Parts Thereof, Finished and Unfinished, From the People's Republic of China: Final Results of Antidumping Duty Administrative Review; 2010-2011, 78 FR 3396, 3397 (January 16, 2013).

Analysis of Comments Received

All issues raised in the case briefs by parties to this administrative review and NSRs are addressed in the Issues and Decision Memo. A list of the issues which parties raised and to which we respond in the Issues and Decision Memo is attached to this notice as an Appendix. The Issues and Decision Memo is a public document and is on file electronically via Enforcement and Compliance's Antidumping and Countervailing Duty Centralized Electronic Service System (IA ACCESS). IA ACCESS is available to registered users at http://iaaccess.trade.gov, and it is available to all parties in the Central Records Unit, room 7046 of the main Department of Commerce building. In addition, a complete version of the Issues and Decision Memo can be accessed directly at http://enforcement.trade.gov/frn/. The signed Issues and Decision Memo and the electronic version of the Issues and Decision Memo are identical in content.

Changes Since the Preliminary Results

Based on our analysis of the comments received, we made changes in the margin calculations for all respondents. These changes are discussed in the relevant sections of the Issues and Decision Memo and company-specific analysis memos, as appropriate.

Period of Review

The POR is June 1, 2011, through May 31, 2012.

Final Results of the Review

Regarding the administrative review, we are assigning the following weighted-average dumping margins to the firms listed below for the period June 1, 2011, through May 31, 2012, as follows:

Exporter | Weighted- average dumping margin (percent)
Changshan Peer Bearing Co., Ltd | 0.74
Dana Heavy Axle S.A. de C.V.* | 0.74
Zhejiang Sihe Machine Co., Ltd* | 0.74
Zhejiang Zhaofeng Mechanical and Electronic Co., Ltd.* | 0.74
PRC-Wide Entity ¹³ | 92.84
* This company applied for or demonstrated eligibility for a separate rate in this administrative review. The rate for this company is the calculated weighted-average dumping margin for CPZ/SKF.

Regarding the NSRs, we are assigning the following weighted-average dumping margins to the firms listed below for the period June 1, 2011, through May 31, 2012:

¹³ The PRC-Wide Entity includes all entities for which the Department initiated a review but which did not establish their eligibility for a separate rate. See Preliminary Results, 78 FR at 40694, and accompanying Preliminary Decision Memorandum at 5-8.

Exporter | Producer | Weighted- average dumping margin (percent)
Haining Automann Parts Co., Ltd | Haining Automann Parts Co., Ltd | 60.25
Zhejiang Zhengda Bearing Co., Ltd | Zhejiang Zhengda Bearing Co., Ltd | 0.00

Disclosure

We intend to disclose the calculations performed within five days of the date of publication of this notice to parties in this proceeding in accordance with 19 CFR 351.224(b).

Assessment Rates

Pursuant to section 751(a)(2)(C) of the Act, and 19 CFR 351.212(b)(1), the Department has determined, and Customs and Border Protection (CBP) shall assess, antidumping duties on all appropriate entries of subject merchandise and deposits of estimated duties, where applicable, in accordance with the final results of this review and these NSRs. The Department intends to issue assessment instructions to CBP 15 days after the date of publication of these final results of reviews.

For an individually-examined respondent (either exporter or producer and exporter combination specified above) whose weighted-average dumping margin is not zero or de minimis (i.e., less than 0.50 percent), we calculated importer-specific assessment rates for entries subject to this review. For entries exported by CPZ/SKF and for entries produced and exported by Automann, we calculated an ad valorem rate for each importer by dividing the total amount of dumping calculated for the importer's examined sales by the total entered values associated with those sales. For duty assessment rates calculated on this basis, we will direct CBP to assess the resulting ad valorem rate against the entered customs values for the subject merchandise. We will instruct CBP to assess antidumping duties on all appropriate entries covered by this review where an importer-specific assessment rate is not zero or de minimis. Where either the respondent's weighted-average dumping margin is zero or de minimis,¹⁴ or an importer-specific assessment rate is zero or de minimis, we will instruct CBP to liquidate the appropriate entries without regard to antidumping duties.¹⁵

¹⁴ Id.

¹⁵ See 19 CFR 351.106(c)(2).

The Department recently announced a refinement to its assessment practice in NME cases. Pursuant to this refinement in practice, for entries that were not reported in the U.S. sales databases submitted by companies individually examined during this review, the Department will instruct CBP to liquidate such entries at the rate applicable for the PRC-wide entity.¹⁶ Additionally, if the Department determines that an exporter had no shipments of the subject merchandise, any suspended entries that entered under that exporter's case number (i.e., at that exporter's rate) will be liquidated at the rate applicable for the PRC-wide entity.¹⁷

¹⁶ See Non-Market Economy Antidumping Proceedings: Assessment of Antidumping Duties, 76 FR 65694 (October 24, 2011).

¹⁷ Id.

Cash Deposit Requirements

The following cash deposit requirements will be effective upon publication of the final results of this administrative review for all shipments of the subject merchandise entered, or withdrawn from warehouse, for consumption on or after the publication date, as provided for by section 751(a)(2)(C) of the Act: (1) For the exporters listed above which have a separate rate, the cash deposit rate will be equal to the weighted-average dumping margin established in the final results of this review (except, if the rate is de minimis, then a cash deposit rate of zero will be established for that company); (2) for previously investigated or reviewed PRC and non-PRC exporters not listed above that have separate rates, the cash deposit rate will continue to be the exporter-specific rate published for the most recently completed segment of this proceeding; (3) for all PRC exporters of subject merchandise that have not been found to be entitled to a separate rate, the cash deposit rate will be the rate for the PRC-wide entity, 92.84 percent; and (4) for all non-PRC exporters of subject merchandise which have not received their own rate, the cash deposit rate will be the rate applicable to the PRC exporter that supplied that non-PRC exporter.

With respect to the NSRs, consistent with the Department's practice,¹⁸ the Department has established a combination cash deposit rate for Automann and Zhengda as follows: (1) For subject merchandise exported and produced by Automann or Zhengda, the cash deposit rate will be the rate established for each producer and exporter combination in the final results of these reviews; (2) for subject merchandise exported by Automann or Zhengda but not produced by the same company, the cash deposit rate will be the rate for the PRC-wide entity, 92.84 percent; (3) for subject merchandise produced by Automann or Zhengda but not exported by the same company, the cash deposit rate will be the rate applicable to that exporter.

¹⁸ See Certain New Pneumatic Off-the-Road Tires From the People's Republic of China: Final Results of Antidumping Duty New Shipper Review; 2011-2012, 78 FR 33341, 33342 (June 4, 2013).

These deposit requirements, when imposed, shall remain in effect until further notice.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results of review in accordance with sections 751(a)(1) and 777(i)(1) of the Act and 19 CFR 351.222.

Dated: January 16, 2014.
Christian Marsh,
Deputy Assistant Secretary for Antidumping and Countervailing Duty Operations.

Appendix—List of Topics Discussed in the Issues and Decision Memo

General Issues

1. Surrogate Value for Truck Freight

2. Using the Annual Report of NSK Bearing Company (Thailand) Limited To Calculate Surrogate Financial Ratios

CPZ/SKF Issues

3. Consideration of an Alternative Comparison Method in Administrative Reviews

4. Differential Pricing Analysis

5. Value of Steel Used in Products Produced by the Peer Bearing Company

6. Factors of Production Used in Determining Normal Value

Automann Issue

7. Surrogate Value for Sensors

[FR Doc. 2014-01503 Filed 1-24-14; 8:45 am]

BILLING CODE 3510-DS-P